NUCLEAR REGULATORY COMMISSION

[Docket Nos. 50-327-LR, 50-328-LR; ASLBP No. 13-927-01-LR-BD01]

Tennessee Valley Authority; Establishment of Atomic Safety and Licensing Board

Pursuant to delegation by the Commission dated December 29, 1972, see 37 FR 28710 (1972), and the Commission's regulations, see, e.g., 10 CFR 2.104, 2.105, 2.300, 2.309, 2.313, 2.318, and 2.321, notice is hereby given that an Atomic Safety and Licensing Board (Board) is being established to preside over the following proceeding:

Tennessee Valley Authority (Sequoyah Nuclear Plant, Units 1 and 2)

This proceeding involves an application by Tennessee Valley Authority to renew for twenty years its operating licenses for Sequoyah Nuclear Plant, Units 1 and 2, which are located in Soddy-Daisy, Tennessee. The current Unit 1 and Unit 2 operating licenses expire, respectively, on September 17, 2020 and September 15, 2021. In response to a “Notice of Acceptance for Docketing of Application and Notice of Opportunity for Hearing Regarding Renewal of Sequoyah Nuclear Plants, Units 1 and 2,” see 78 Fed. Reg. 14,362 (Mar. 5, 2013), a “Petition for Leave to Intervene and Request for Hearing” was filed on May 6, 2013 by the Blue Ridge Environmental Defense League, Bellefonte Efficiency and Sustainability Team, and Mothers Against Tennessee River Radiation.

The Board is comprised of the following administrative judges:

Alex S. Karlin, Chairman, Atomic Safety and Licensing Board Panel, U.S. Nuclear Regulatory Commission, Washington, DC 20555-0001

Dr. Paul B. Abramson, Atomic Safety and Licensing Board Panel, U.S. Nuclear Regulatory Commission, Washington, DC 20555-0001

Dr. Gary S. Arnold, Atomic Safety and Licensing Board Panel, U.S. Nuclear Regulatory Commission, Washington, DC 20555-0001

All correspondence, documents, and other materials shall be filed in accordance with the NRC E-Filing rule. See 10 CFR. 2.302.

Issued at Rockville, Maryland, this 10th day of May 2013.
E. Roy Hawkens,
Chief Administrative Judge, Atomic Safety and Licensing Board Panel.

[FR Doc. 2013-11712 Filed 5-15-13; 8:45 am]

BILLING CODE 7590-01-P